DEPARTMENT OF ENERGY

Federal Energy Regulatory Commission

[Docket Nos. RM96-1-019, RP02-336-000, RP02-324-000, RP02-234-000, RP02-325-000, RP02-323-000, RP02-326-000, RP02-328-000]

Standards for Business Practices of Interstate Natural Gas Pipelines; et al.; Notice of Compliance Filing

May 8, 2002.

Chandeleur Pipe Line Company

Clear Creek Storage Company, L.L.C.

Discovery Gas Transmission LLC

Overthrust Pipeline Company

Paiute Pipeline Company

Questar Pipeline Company

TransColorado Gas Transmission Company

Take notice that the above-referenced pipelines made filings in compliance with Docket No. RM96-1-019, Order No. 587-N.¹ These revised tariff sheets to be effective July 1, 2002, implements Commission regulation 284.12(c)(1)(ii)(B) that requires that pipelines permit releasing shippers, as a condition of a capacity release, to recall released capacity and renominate such recalled capacity at each nomination opportunity. The filings implement the first phase of compliance with Order No. 587-N by implementing recalls of scheduled capacity for the Timely and Evening Nomination Cycles and for recalls of unscheduled capacity at any of the four nomination cycles.

¹ Standards For Business Practices Of Interstate Natural Gas Pipelines, Order No. 587-N, 67 FR 11906 (March 18, 2002), FERC Stats. & Regs. Regulations Preambles ¶ 31,125 (March 11, 2002).

Any person desiring to become a party in a proceeding must file a separate motion to intervene or protest in each docket.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11994 Filed 5-13-02; 8:45 am]

BILLING CODE 6717-01-P